DEPARTMENT OF THE INTERIOR

Bureau of Land Management

[UT-020-03-1220-MA]

Notice of Limitations of Off Road Vehicles (ORV) Use on Public Lands

AGENCY: Department of the Interior, Bureau of Land Management.

ACTION: Notice of Limitations of ORV Use on Public Lands.

SUMMARY: Notice is hereby given that effective immediately, the Bureau of Land Management (BLM), Salt Lake Field Office, revokes the seasonal Notice of Closure of Public Lands published on April 27, 1999 (64 FR 22639 (1999)) and the Notice of Closure of Public Lands published on March 28, 2000 (65 FR 16410 (2000)). Notice is hereby given that effective immediately, ORV use in the following five areas of Box Elder County is limited to designated routes: Devils Playground (9838 acres), Grouse Creek Mountains (52493 acres), Hogup Mountains (51698 acres), Pilot Mountains (62654 acres), and Wildcat Hills (12640 acres). The remaining public lands in Box Elder County will be managed according to the Box Elder Resource Management Plan. This limitation will remain in effect until the considerable adverse effects giving rise to this limitation are eliminated and measures are implemented to prevent recurrence of these adverse effects.

FOR FURTHER INFORMATION CONTACT: Brad Palmer, Assistant Field Office Manager, Salt Lake Field Office, Bureau of Land Management, 2370 South 2300 West, Salt Lake City, Utah, 84119; (801) 977-4300.

SUPPLEMENTARY INFORMATION: BLM is implementing this action on 189,323 acres of public land in Northwest Utah. BLM is limiting ORV use in five areas of Box Elder County to designated routes. BLM's Salt Lake Field Office has observed considerable adverse effects from ORV use in these areas, including proliferation of new ORV routes, damage and destruction of vegetation, increased soil erosion, and a likelihood of damage to cultural resources. Based on this information, the authorized officer determined that ORV use in these five areas is causing, or will cause, considerable adverse effects upon soil, vegetation, wildlife, wildlife habitat, cultural resources, historical resources, and other authorized uses. Consequently, in these five areas ORV use is now limited to designated routes. This does not apply to:

1. Any federal, state or local government law enforcement officer engaged in enforcing this closure notice or member of an organized rescue or fire fighting force while in the performance of an official duty.

2. Any BLM employee, agent, contractor, or cooperator while in the performance of an official duty.

This order shall not be construed as a limitation on BLM's future planning efforts or ORV designations. BLM will periodically monitor resource conditions and trends in each of these five areas and may modify this order or implement additional limitations as necessary. A map showing the areas and designated routes is available at the above address.

The authority for this order is 43 CFR 8341.2.

Dated: April 3, 2003.
Glenn A. Carpenter,
Field Office Manager.

[FR Doc. 03-10221 Filed 4-23-03; 8:45 am]

BILLING CODE 4310-$$-U